ENVIRONMENTAL PROTECTION AGENCY

[EPA-HQ-OEI-2011-0096; FRL-9426-5]

Agency Information Collection Activities; Submission to OMB for Review and Approval; Comment Request; Cross-Media Electronic Reporting Rule (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 29, 2011.

ADDRESSES: Submit your comments, referencing Docket ID No. EPA-HQ-OEI-2011-0096, to (1) EPA online using http://www.regulations.gov (our preferred method), by e-mail to oei-docket@epa.gov, or by mail to EPA Docket Center, Environmental Protection Agency, Office of Environmental Information (OEI) Docket, Mailcode 2822T, 1200 Pennsylvania Ave., NW., Washington, DC 20460, and (2) OMB by mail to Office of Information and Regulatory Affairs, Office of Management and Budget (OMB), Attention: Desk Officer for EPA, 725 17th Street, NW., Washington, DC 20503.

FOR FURTHER INFORMATION CONTACT: Evi Huffer, Information Exchange and Services Division, Office of Environmental Information (Mailcode 2823T), Environmental Protection Agency, 1200 Pennsylvania Ave., NW., Washington, DC 20460; telephone number: 202-566-1697; fax number: 202-566-1685; e-mail address: huffer.evi@epa.gov.

SUPPLEMENTARY INFORMATION: EPA has submitted the following ICR to OMB for review and approval according to the procedures prescribed in 5 CFR 1320.12. On February 2, 2011 (76 FR 5802), EPA sought comments on this ICR pursuant to 5 CFR 1320.8(d). EPA received no comments. Any additional comments on this ICR should be submitted to EPA and OMB within 30 days of this notice.

EPA has established a public docket for this ICR under Docket ID No. EPA-HQ-OEI-2011-0096, which is available for online viewing at http://www.regulations.gov, or in person viewing at the OEI Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the OEI Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Cross-Media Electronic Reporting Rule.

ICR Numbers: EPA ICR No. 2002.05, OMB Control No. 2025-0003.

ICR Status: This ICR is scheduled to expire on July 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR Part 9, are displayed either by publication in the Federal Register or by other appropriate means, such as on the related collection instrument or form, if applicable. The display of OMB control numbers in certain EPA regulations is consolidated in 40 CFR Part 9.

Abstract: The scope of this ICR is the electronic reporting components of the Cross-Media Electronic Reporting Rule (CROMERR), which is designed to: allow EPA to comply with the Government Paperwork Elimination Act of 1998; provide a uniform, technology-neutral framework for electronic reporting across all EPA programs; allow EPA programs to offer electronic reporting as they become ready for CROMERR; and provide states with a streamlined process—together with uniform set of standards—for approval of their electronic reporting provisions for all their EPA-authorized programs. Use of electronic reporting is voluntary. In order to accommodate CBI, the information collected must be in accordance with the confidentiality regulations set forth in 40 CFR Part 2, subpart B. Additionally, EPA will ensure that the information collection procedures comply with the Privacy Act of 1974 and the OMB Circular 108.

Burden Statement: The overall recordkeeping and reporting burden for this ICR is estimated to be about 12 minutes per response. However, the actual burden varies between 5 minutes and 331 hours depending on the specific activity. Please see the supporting statement for the details.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Facilities reporting electronically to EPA and state, tribal, or local government authorized programs; and state, tribal, and local government authorized programs implementing electronic reporting.

Estimated Number of Respondents: EPA estimates that, on average, 87,080 facility employees will register and comply with identity proofing requirements of EPA or state, tribal, or local government authorized program electronic document receiving systems each year. EPA estimates that 24 state, tribal, or local government authorized programs will submit documentation to EPA associated with the approval of their electronic document receiving systems each year.

Frequency of Response: On occasion.

Estimated Total Annual Hour Burden: 39,763 hours.

Estimated Total Annual Cost: The estimated total annual cost is $2,167,446. This includes an estimated labor cost of $1,396,120, capital cost of $632,137, and operation and maintenance (O&M) cost of $139,189.

Changes in the Estimates: There is a decrease of 38,272 hours in the total estimated burden currently identified in the OMB Inventory of Approved ICR Burdens. This decrease occurred for two primary reasons. First, there was a decrease in the annualized number of respondents. The total number of employees registering with EPA's electronic document receiving system and/or complying with CROMERR's identity proofing requirements decreased from 93,325 in the currently approved ICR to 87,080 in this ICR. In addition, the total number of state, tribal, and local government authorized programs upgrading their existing electronic document receiving systems or developing new electronic document receiving systems, and submitting documentation associated with the approval of CROMERR applications decreased from 61 in the currently approved ICR to 24 in this ICR. EPA conducted a thorough examination of available information (e.g., number of application received over the past three years) in estimating the number of respondents subject to the requirements of this ICR. EPA thinks that the number of respondents included in this ICR is a reasonable approximation of the actual respondent universe.

Second, in developing this ICR, EPA carefully reviewed the respondent activities associated with compliance with identify proofing requirements. EPA made a few changes to the assumptions associated with subscriber agreement and LRA alternatives to be consistent with actual compliance of respondents with these requirements. For example, EPA reduced the proportion of respondents that use the LRA alternative while increasing the proportion of respondents that comply with subscriber agreement requirements. This resulted in a burden decrease because the burden associated with subscriber agreements is less than the LRA burden. EPA notes that few, if any, respondents opted to use the LRA alternative over the past three years.

Dated: June 23, 2011.
John Moses,
Director, Collection Strategies Division.

[FR Doc. 2011-16372 Filed 6-28-11; 8:45 am]

BILLING CODE 6560-50-P